NATIONAL ARCHIVES AND RECORDS ADMINISTRATION

36 CFR Part 1280

[NARA-06-0005]

RIN 3095-AB55

Use of NARA Facilities; Correction

AGENCY: National Archives and Records Administration (NARA).

ACTION: Correcting amendment.

SUMMARY: The National Archives and Records Administration (NARA) published a final rule in the Federal Register on December 20, 2006 (71 FR 76166), revising NARA's rules relating to use of NARA property. In the heading to a paragraph within a section, the rule misidentified the National Archives Southeast Region as the National Archives Southwest Region. This document corrects the identification error.

¹ The applicable charge at the Saint Lawrence Seaway Development Corporation's locks (Eisenhower, Snell) for pleasure craft is $30 U.S. or $30 Canadian per lock. The applicable charge under item 3 at the Saint Lawrence Seaway Development Corporation's locks (Eisenhower, Snell) will be collected in U.S. dollars. The other amounts are in Canadian dollars and are for the Canadian Share of tolls. The collection of the U.S. portion of tolls for commercial vessels is waived by law (33 U.S.C. 988a(a)).

EFFECTIVE DATE: Effective on January 31, 2007.

FOR FURTHER INFORMATION CONTACT: Laura McCarthy at 301-837-3023 or fax number 301-837-0319.

SUPPLEMENTARY INFORMATION: In addition to revising 36 CFR Part 1280 provisions on the inspection of personal property, the final rule identified those properties that had come under the control of the Archivist since the last revision of the regulation. Although the final rule incorrectly used “The National Archives Southwest Region” as the heading to 36 CFR 1280.2(d), the rule did correctly identify the physical location of the property as the National Archives Southeast Region in Morrow, Georgia, as specified in 36 CFR 1253.7(e).

List of Subjects in 36 CFR Part 1280

Archives and records.

For the reason stated in the preamble, 36 CFR part 1280 is corrected by making the following correcting amendment:

PART 1280—USE OF NARA FACILITIES

1. The authority citation for part 1280 continues to read as follows:

Authority: 44 U.S.C. 2104(a).

2. Revise § 1280.2 (d) to read as follows:

§ 1280.2 What property is under the control of the Archivist of the United States?

* * * * *

(d) The National Archives Southeast Region. The National Archives Southeast Region in Morrow, Georgia, as specified in 36 CFR 1253.7(e).

* * * * *

Dated: January 23, 2007.
Allen Weinstein,
Archivist of the United States.

[FR Doc. E7-1498 Filed 1-30-07; 8:45 am]

BILLING CODE 7515-01-P